NATIONAL SCIENCE FOUNDATION

Agency Information Collection Activities: Comment Request

AGENCY: National Science Foundation.

ACTION: Notice; Submission for OMB Review; Comment Request.

SUMMARY: The National Science Foundation (NSF) has submitted the following information collection requirement to OMB for review and clearance under the Paperwork Reduction Act of 1995, Public Law 104-13. This is the second notice for public comment; the first was published in the Federal Register at 75 FR 36697, and no substantial comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW. Room 10235, Washington, DC 20503, and to Suzanne Plimpton, Reports Clearance Officer, National Science Foundation, 4201 Wilson Boulevard, Room 295, Arlington, VA 22230, or by e-mail to splimpton@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

Under OMB regulations, the agency may continue to conduct or sponsor the collection of information while this submission is pending at OMB.

ADDRESSES: Submit written comments to Suzanne Plimpton, Reports Clearance Officer, National Science Foundation, 4201 Wilson Boulevard, Room 295, Arlington, VA 22230, or by e-mail to splimpton@nsf.gov.

FOR FURTHER INFORMATION CONTACT: Call or write, Suzanne Plimpton, Reports Clearance Officer, National Science Foundation, 4201 Wilson Boulevard, Room 295, Arlington, VA 22230, or by e-mail to splimpton@nsf.gov. Individuals who use a telecommunications device for the deaf (TDD) may call the Federal Information Relay Service (FIRS) at 1-800-877-8339 between 8 a.m. and 8 p.m., Eastern time, Monday through Friday.

SUPPLEMENTARY INFORMATION:

Title of Collection: Graduate Research Fellowship Program Evaluation.

OMB Approval Number: 3145-NEW.

Abstract: The purpose of this study is to provide evidence on the impact of the GRPF on individuals' educational decision, career preparations, aspirations and progress, as well as professional productivity. This includes the study design and data collection as well as subsequent analysis and report writing. As part of NSF's commitment to graduate student education in the U.S., the GRFP seeks to promote and maintain advanced training in science, technology, engineering, and mathematics (STEM) field by annually awarding roughly 1,000 fellowships to graduate student in research-based programs. As the first program evaluation since 2002, the GRFP evaluation comes on the heels of increased funding by NSF to supporting additional fellowship awards.

NSF contracts with the National Opinion Research Center (NORC) at the University of Chicago to design, implement, and assess a study that will address relevant procedures and components of the GRFP in regards to the application and award process and support for Fellows and sponsoring institutions with an aim towards measuring and increasing the program's effectiveness.

There are four goals of the GRFP evaluation. The first goal is to maintain a high quality evaluation through consultation with an advisory group of national experts. The second goal is to assess impacts of the GRFP on graduate school experiences through a follow-up study of GRFP award recipients and other applicants. The third goal is to assess impacts of the GRFP on career and professional outcomes through analysis of GRFP participants and comparable national populations. The fourth goal is to assess the benefits of the GRFP on institutions that enroll GRFP Fellows. The evaluation is designed to address research questions that explore the influences of the GRFP on the following broad sets of variables:

• Educational decisions, experiences, and graduate degree attainment of STEM graduate students;

• Career preparation and aspirations;

• Career activities, progress, and job characteristics following graduate school;

• Professional productivity;

• Workforce participation and career outcomes;

• Graduate school institutions and student recruitment at GRFP-sponsoring institutions;

• Faculty attitudes at GRFP-sponsoring institutions;

• Diversity of students participating in STEM fields at GRFP-sponsoring institutions.

This survey would address two separate components of the planned GRPF evaluation. First, this component will assess the influence of GRFP awards on recipients' graduate school experience and outcomes, which includes program of study and institution attended, professional productivity (e.g., publishes papers, conference presentations, etc.) during graduate schools and career aspirations. Second, the survey will evaluate the impact of participation in the GRPF on subsequent career options, progress and contributions to respondents' professional fields. This will be conducted as a web-based survey.

Estimate of Burden: Public reporting burden for this collection of information is estimated to average 30 minutes for current graduate students and 40 minutes per graduates.

Respondents: Individuals.

Estimated Number of Responses per Form: 2,826 graduate students; 6,429 graduates.

Estimated Total Annual Burden on Respondents: 5,699 hours (2,826 graduate student respondents at 30 minutes per response = 1,413 hours + 6,429 graduate respondents at 40 minutes per response = 4,286 hours).

Frequency of Response: One time.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: September 13, 2010.
Suzanne H. Plimpton,
Reports Clearance Officer, National Science Foundation.

[FR Doc. 2010-23170 Filed 9-15-10; 8:45 am]

BILLING CODE 7555-01-P